NATIONAL AERONAUTICS AND SPACE ADMINISTRATION

[Notice (18-017)]

NASA Advisory Council; Ad Hoc Task Force on STEM Education; Meeting

AGENCY: National Aeronautics and Space Administration.

ACTION: Notice of meeting.

SUMMARY: In accordance with the Federal Advisory Committee Act, as amended, the National Aeronautics and Space Administration announces a meeting of the Ad Hoc Task Force on Science, Technology, Engineering and Mathematics (STEM) Education of the NASA Advisory Council (NAC). This Task Force reports to the NAC.

DATES: Tuesday, March 20, 2018, 12:00 p.m.-3:30 p.m., Eastern Time.

FOR FURTHER INFORMATION CONTACT: Dr. Beverly Girten, Designated Federal Officer, Office of Education, NASA Headquarters, Washington, DC 20546, (202) 358-0212, or beverly.e.girten@nasa.gov.

SUPPLEMENTARY INFORMATION: This meeting will be open to the public telephonically and by WebEx. You must use a touch-tone phone to participate in this meeting. Any interested person may dial the toll free access number 844-467-6272 or toll access number 720-259-6462, and then the numeric participant passcode: 329152 followed by the # sign. To join via WebEx, the link is https://nasa.webex.com/, the meeting number is 997 409 583 and the password is Education2018$ (Password is case sensitive.) Note: If dialing in, please “mute” your telephone. The agenda for the meeting will include the following:

—Opening Remarks by Chair

—Transition Update

—Business Service Assessment Update

—Update on STEM Education Advisory Panel

—Formulation of Recommendations and Findings

—Other Related Topics

It is imperative that the meeting be held on this date to accommodate the scheduling priorities of the key participants.

Patricia D. Rausch,
Advisory Committee Management Officer, National Aeronautics and Space Administration.

[FR Doc. 2018-04427 Filed 3-2-18; 8:45 am]

BILLING CODE 7510-13-P